DEPARTMENT OF ENERGY

Office of Fossil Energy; Methane Hydrate Advisory Committee

AGENCY: Department of Energy.

ACTION: Notice of open meeting.

This notice announces a meeting of the Methane Hydrate Advisory Committee. Federal Advisory Committee Act (Pub. L. 92-463, 86 Stat. 770) requires that notice of these meetings be announced in the Federal Register.

DATES: Wednesday, November 8, 2006, 8 a.m. to 5 p.m., and Thursday, November 9, 2006, 8:30 a.m. to 2:30 p.m.

ADDRESSES: Marriott West Loop-by the Galleria, 1750 West Loop South, Houston, TX 77027.

FOR FURTHER INFORMATION CONTACT: Edith Allison, U.S. Department of Energy, Office of Oil and Natural Gas, Washington, DC 20585. Phone: 202-586-1023.

SUPPLEMENTARY INFORMATION: Purpose of the Committee: The purpose of the Methane Hydrate Advisory Committee is to provide advice on potential applications of methane hydrate to the Secretary of Energy, and assist in developing recommendations and priorities for the Department of Energy, Methane Hydrate Research and Development Program.

Tentative Agenda:

Wednesday, November 8:

• Reports on key Department of Energy-supported field projects.

• Report on August Fast Track Subcommittee Meeting and Discussion of Recommendations.

• Environmental Aspects of Gas Hydrates including Barkley Canyon Hydrate Cruise.

• Report on India Expedition and Other International Cooperation.

• Discussion of Draft Methane Hydrate Five-Year Plan.

Thursday, November 9:

• Discussion of Recommendations, Methane Hydrate Five-Year Plan, and 2007 Report to Congress.

• Planning for the Future and Topics for April 2007 Methane Hydrate Advisory Committee Meeting.

• Subcommittee Meetings.

• Wrap-up and Discussion of Action Items.

• Adjourn.

Public Participation: The meeting is open to the public. The Chairman of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, Room 1E-190, Forrestal Building, 1000 Independence Avenue, SW., Washington, DC, between 9 a.m. and 4 p.m., Monday through Friday, except Federal holidays.

Issued at Washington, DC, on September 14, 2006.
Rachel Samuel,
Deputy Advisory Committee, Management Officer.

[FR Doc. 06-7807 Filed 9-19-06; 8:45 am]

BILLING CODE 6450-01-P